Title 3—

The President

Proclamation 7459 of August 30, 2001

National Ovarian Cancer Awareness Month, 2001

By the President of the United States of America

A Proclamation

Ovarian cancer, the deadliest of the gynecologic cancers, is the fifth leading cause of cancer deaths among women in the United States. Experts predict that more than 23,000 cases will be diagnosed in 2001, with an estimated 13,900 women dying from the disease this year.

Ovarian cancer is very treatable when detected early, but only 25 percent of ovarian cancer cases in the United States are diagnosed in the early stages. The vast majority of cases are not diagnosed until the cancer has spread beyond the ovaries, often because symptoms are easily confused with other diseases and because no reliable, easily administered screening tool exists.

When the disease is diagnosed in advanced stages, the chance of 5-year survival is only about 25 percent. Currently, 50 percent of women diagnosed with ovarian cancer die from it within 5 years. Among African-American women, only 48 percent survive 5 years or more.

Early detection of this disease remains the best way to save women's lives. Symptoms may include abdominal pressure or bloating, persistent digestive problems, excessive fatigue, and sometimes abnormal bleeding. Women also should be aware that risk factors are higher for those who are over 50 years of age, who have a personal or family history of ovarian, breast, or colon cancer, and who have not borne a child.

National Ovarian Cancer Awareness Month serves as an important time to recognize Federally funded research efforts by the National Cancer Institute, the Centers for Disease Control and Prevention, and the Department of Defense Ovarian Cancer Research Program. Their work has achieved great strides, and my Administration is committed to continuing funding of research that will decrease the high mortality from ovarian cancer and ultimately prevent the disease. At the same time, the medical community and nonprofit groups are working together to create more awareness about the disease and spotlight the need for continued research into prevention, early detection tools, advanced therapies, and possible cures.

During this special observance, I commend the scientists, physicians, and other medical and health professionals who are working to advance knowledge and understanding of ovarian cancer. I also encourage all Americans to learn more about the disease and the importance of early detection. Doing so can save lives and protect the health and well-being of countless women.

NOW, THEREFORE, I, GEORGE W. BUSH, President of the United States of America, by virtue of the authority vested in me by the Constitution and laws of the United States, do hereby proclaim September as National Ovarian Cancer Awareness Month. I call upon the people of the United States to observe this month with appropriate programs and activities.

IN WITNESS WHEREOF, I have hereunto set my hand this thirtieth day of August, in the year of our Lord two thousand one, and of the Independence of the United States of America the two hundred and twenty-sixth.

B

[FR Doc. 01-22474

Filed 9-4-01; 9:52 am]

Billing code 3195-01-P